DEPARTMENT OF DEFENSE

Office of the Secretary

[Transmittal No. 15-39]

36(b)(1) Arms Sales Notification

AGENCY: Defense Security Cooperation Agency, DoD.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-39 with attached Policy Justification.

Dated: August 11, 2015.
Aaron Siegel,
Alternate OSD Federal Register Liaison Officer, Department of Defense.

Transmittal No. 15-39

Notice of Proposed Issuance of Letter of Offer Pursuant to Section 36(b)(1) of the Arms Export Control Act, as amended

(i) Prospective Purchaser: The United Arab Emirates (UAE)

(ii) Total Estimated Value:

Major Defense Equipment * | $57 million
Other | $278 million
TOTAL | $ 335 million

(iii) Description and Quantity or Quantities of Articles or Services under Consideration for Purchase: four (4) AN/AAQ 24(V) Directional Infrared Countermeasures (DIRCM) systems for its Head of State aircraft. The sale consists of: twenty (20) Small Laser Transmitter Assemblies, ten (10) System Processors, and thirty (30) AN/AAR-54 Missile Warning System sensors. The sale also includes Control Interface Units (CIU), Selective Availability Anti-Spoofing Modules (SAASM), Classified User Data Module (UDM) cards, support and test equipment, spare and repair parts, publications and technical documentation, repair and return, Group A and B installation, flight test and certification, personnel training and training equipment, U.S. Government and contractor logistics, engineering, and technical support services, and other related elements of logistics and program support.

(iv) Military Department: Air Force (QAH)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 28 July 2015

* As defined in Section 47(6) of the Arms Export Control Act.

POLICY JUSTIFICATION

United Arab Emirates (UAE)—AN/AAQ 24(V) Directional Infrared Countermeasures (DIRCM) Systems

The United Arab Emirates has requested a possible sale of four (4) AN/AAQ 24(V) Directional Infrared Countermeasures (DIRCM) systems for its Head of State aircraft. The sale consists of: twenty (20) Small Laser Transmitter Assemblies, ten (10) System Processors, and thirty (30) AN/AAR-54 Missile Warning System sensors. The sale also includes Control Interface Units (CIU), Selective Availability Anti-Spoofing Modules (SAASM), Classified User Data Module (UDM) cards, support and test equipment, spare and repair parts, publications and technical documentation, repair and return, Group A and B installation, flight test and certification, personnel training and training equipment, U.S. Government and contractor logistics, engineering, and technical support services, and other related elements of logistics and program support. The total estimated cost is $335 million.

This proposed sale will contribute to the foreign policy and national security of the United States by helping to improve the security of a partner country which has been, and continues to be, an important force for political stability and economic progress in the Middle East.

This proposed sale of DIRCM will help provide protection to the UAE's Head of State aircraft. DIRCM will facilitate a more robust capability against increased missile threats. The sale of this advanced system will enhance the safety of the UAE's political leadership while bolstering U.S.-UAE relations. The UAE will have no difficulty absorbing these systems into its armed forces.

The proposed sale of this equipment and support will not alter the basic military balance in the region.

The principal contractors will be The Boeing Company in Chicago, Illinois; and Northrop Grumman Corporation in Rolling Meadows, Illinois. There are no known offset agreements proposed in connection with this potential sale.

Implementation of this sale provides for one Field Service representative to live in the UAE for up to two years. Also, implementation will require U.S. Government or contractor representatives to travel to the UAE for up to 6 years to conduct program execution, delivery, technical support and training.

There will be no adverse impact on U.S. defense readiness as a result of this sale.

Transmittal No. 15-39

Notice of Proposed Issuance of Letter of Offer, Pursuant to Section 36(b)(1) of the Arms Export Control Act

Annex

Item No. vii

(vii) Sensitivity of Technology:

The AN/AAQ-24(V) Directional Infrared Countermeasures (DIRCM) system is a self-contained, directed energy countermeasures system designed to protect aircraft from infrared-guided surface-to-air missiles. The system features digital technology and micro-miniature solid-state electronics. The system operates in all conditions, detecting incoming missiles and jamming infrared-seeker equipped missiles with aimed bursts of laser energy. The DIRCM system consists of multiple missile warning sensors (AAR-54), one or more Small Laser Turret Assemblies (SLTA), a System Processor (SP) computer, a Control Indicator (CI), and a classified User Data Memory (UDM) card containing the laser jamming codes. The UDM card is loaded into the SP prior to flight; when not in use, the UDM card is removed from the SP and put in secure storage. The AAR-54 missile warning sensors are mounted on the aircraft exterior to provide omni-directional protection. The sensors detect the rocket plume of missiles and sends appropriate data signals to the CP for processing. The CP analyzes the data from each sensor and automatically deploys the appropriate countermeasure via the SLTA. The CI displays the incoming threat to allow the pilot to take additional appropriate action. The SP also contains Built-In-Test (BIT) circuitry. DIRCM hardware and software, including Operational Flight Program and jam codes are classified Secret. The technical data and documentation to be provided are Unclassified.

If a technologically advanced adversary were to obtain knowledge of the specific hardware and software elements, the information could be used to develop countermeasures or equivalent systems which might reduce system effectiveness or be used in the development of a system with similar or advanced capabilities.

A determination has been made that the UAE can provide the same degree of protection for the sensitive technology being released as the U.S. Government. This sale is necessary in furtherance of the U.S. foreign policy and national security objectives outlined in the Policy Justification.

All defense articles and services listed in this transmittal have been authorized for release and export to the UAE.

[FR Doc. 2015-20047 Filed 8-13-15; 8:45 am]

BILLING CODE 5001-06-P